ENVIRONMENTAL PROTECTION AGENCY

40 CFR Part 300

[FRL-7793-4]

National Oil and Hazardous Substance Pollution Contingency Plan; National Priorities List

AGENCY: Environmental Protection Agency.

ACTION: Direct final notice of deletion of the South 8th Street Landfill Superfund Site from the National Priorities List.

SUMMARY: The Environmental Protection Agency (EPA) Region 6 is publishing a direct final notice of deletion of the South 8th Street Landfill Superfund Site (Site), located in West Memphis, Crittenden County, Arkansas, from the National Priorities List (NPL). The NPL, promulgated pursuant to section 105 of the Comprehensive Environmental Response, Compensation, and Liability Act (CERCLA) of 1980, as amended, is Appendix B of 40 CFR part 300, which is the National Oil and Hazardous Substances Pollution Contingency Plan (NCP). This direct final notice of deletion is being published by the EPA with the concurrence of the State of Arkansas, through the Arkansas Department of Environmental Quality, because the EPA has determined that all appropriate response actions under CERCLA have been completed and, therefore, further remedial action pursuant to CERCLA is not appropriate.

DATES: This direct final deletion will be effective September 28, 2004, unless EPA receives adverse comments by August 30, 2004. If adverse comments are received, the EPA will publish a timely withdrawal of the direct final deletion in the Federal Register informing the public that the deletion will not take effect.

ADDRESSES: Comments may be mailed to: Vincent Malott, Remedial Project Manager (RPM), U.S. EPA Region 6 (6SF-AP), 1445 Ross Avenue, Dallas, TX 75202-2733, (214) 665-8313 or 1-800-533-3508 (malott.vincent@epa.gov).

Information Repositories: Comprehensive information about the Site is available for viewing and copying at the Site information repositories located at: EPA Region 6, Seventh Floor Reception Area, 1445 Ross Avenue, Suite 12D13, Dallas, Texas 75202-2733, Appointments: (214) 665-6548, Monday-Friday—7:30 a.m. to 4:30 p.m.; West Memphis Public Library, 213 North Avalon, West Memphis, AR 72301, (870) 732-7590, Monday 10 a.m.—8 p.m., Tuesday—Thursday 10 a.m.—7 p.m., Friday 10 a.m.—5 p.m., Saturday 10 a.m.—3 p.m., closed on Sunday; Arkansas Department of Environmental Quality, attention: Masoud Arjmandi, 8001 National Drive, Little Rock, Arkansas 72219, (501) 682-0852, Monday-Friday, excluding holidays, 8 a.m. to 4:30 p.m.

FOR FURTHER INFORMATION CONTACT: Vincent Malott, Remedial Project Manager (RPM), EPA Region 6 (6SF-AP), 1445 Ross Avenue, Dallas, TX 75202-2733, (214) 665-8313 or 1-800-533-3508 (malott.vincent@epa.gov).

SUPPLEMENTARY INFORMATION:

Table of Contents

I. Introduction

II. NPL Deletion Criteria

III. Deletion Procedures

IV. Basis for Site Deletion

V. Deletion Action

I. Introduction

The EPA Region 6 is publishing this direct final notice of deletion of the South 8th Street Landfill Superfund Site from the NPL.

The EPA identifies sites that appear to present a significant risk to public health or the environment and maintains the NPL as the list of those sites. As described in § 300.425(e)(3) of the NCP, sites deleted from the NPL remain eligible for remedial actions if conditions at a deleted site warrant such action.

Because the EPA considers this action to be noncontroversial and routine, the EPA is taking it without prior publication of a notice of intent to delete. This action will be effective September 28, 2004, unless the EPA receives adverse comments by August 30, 2004, on this notice or the parallel notice of intent to delete published in the proposed rules section of today's Federal Register. If adverse comments are received within the 30-day public comment period on this notice or the notice of intent to delete, the EPA will publish a timely withdrawal of this direct final notice of deletion before the effective date of the deletion and the deletion will not take effect. The EPA will, as appropriate, prepare a response to comments and continue with the deletion process on the basis of the notice of intent to delete and the comments already received. There will be no additional opportunity to comment.

Section II of this document explains the criteria for deleting sites from the NPL. Section III discusses procedures that the EPA is using for this action. Section IV discusses the South 8th Street Landfill Superfund Site and demonstrates how it meets the deletion criteria. Section V discusses the EPA's action to delete the Site from the NPL unless adverse comments are received during the public comment period.

II. NPL Deletion Criteria

Section 300.425(e) of the NCP provides that releases may be deleted from the NPL where no further response is appropriate. In making a determination to delete a release from the NPL, the EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the action remains protective of public health and the environment. If new information becomes available which indicates a need for further action, the EPA may initiate remedial actions. Whenever there is a significant release from a site deleted from the NPL, the deleted site may be restored to the NPL without application of the hazard ranking system.

III. Deletion Procedures

The following procedures apply to deletion of the Site:

(1) The EPA consulted with the Arkansas Department of Environmental Quality on the deletion of the Site from the NPL prior to developing this direct final notice of deletion.

(2) The Arkansas Department of Environmental Quality concurred with deletion of the Site from the NPL.

(3) Concurrently with the publication of this direct final notice of deletion, a notice of the availability of the parallel notice of intent to delete published today in the “Proposed Rules” section of the Federal Register is being published in a major local newspaper of general circulation at or near the Site and is being distributed to appropriate Federal, State, and local government officials and other interested parties; the newspaper notice announces the 30-day public comment period concerning the notice of intent to delete the Site from the NPL.

(4) The EPA placed copies of documents supporting the deletion in the Site information repositories identified above.

(5) If adverse comments are received within the 30-day public comment period on this notice or the companion notice of intent to delete also published in today's Federal Register, the EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter the EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides the EPA's rationale for deleting the Site from the NPL:

Site Location

The South 8th Street Landfill Superfund Site is a 16.3 acre landfill on the flood plain between the Mississippi River and the St. Francis Levee in West Memphis, Crittenden County, Arkansas. The Site is located at the southern end of 8th Street adjacent to the Tom Sawyer RV Park. Two barge terminals are located on the bank of the Mississippi River at the midpoint and south end of the Site. Aerial photographs indicate that the Site was excavated for gravel deposits resulting in a series of borrow pits that were subsequently used for the disposal of industrial and municipal wastes. The former landfill area is subdivided into three separate disposal areas. Area 1 (4.3 acres) of the landfill consists primarily of a former municipal waste landfill. Area 2 (8.1 acres) is predominately an industrial waste landfill with a large oily sludge pit occupying 2.5 acres of the area. Area 3 (3.9 acres) consists of several smaller municipal and industrial waste disposal areas.

Site History

Aerial photographs indicate that the Site was used for the disposal of waste material after 1957. Most of the early disposal activities appear to have been conducted on a 2.61 acre parcel of land (Area 2) leased by Mr. W. M. Gurley from the W. L. Johnson Company. Apparently, Gurley Refining Company used the Site (Area 2) between approximately 1960 and 1970 for the disposal of waste sludge from its re-refining process located on the land side of the St. Francis Levee immediately west of the Site. The sludge waste in the pit has physical and chemical properties similar to material typically identified at oil reclamation facilities.

The Site was first brought to the attention of the United States Government in 1979 in the Eckhardt Survey conducted by the House Congressional Sub-Committee on Interstate Commerce and Transportation. In this survey, the landfill was listed as the West Memphis Landfill Site, South 8th Street.

Between 1981 and 1988, the EPA conducted a series of soil boring investigations of the oily sludge pit and surrounding landfill areas. Polycyclic aromatic hydrocarbons (PAHs), polychlorinated biphenyls (PCBs), benzene, toluene, ethylbenzene, xylene, pesticides, and heavy metals were detected in the samples.

The Site was proposed for listing on the NPL as the “West Memphis Landfill Site” on February 7, 1992 (57 FR 4827). The Site was listed final on the NPL as the “South 8th Street Landfill Site” on October 14, 1992 (57 FR 47184).

The EPA constructed a 1600 linear foot berm around the oily sludge pit under the CERCLA time-critical removal authority to minimize the spread of contamination that could result from flooding of the Site. Construction of the berm was completed between October 19, 1992, and November 4, 1992.

Remedial Investigation and Feasibility Study (RI/FS)

The EPA issued a Unilateral Administrative Order (UAO) to the Potentially Responsible Parties (PRPs) on May 23, 1992. The UAO required the PRPs to construct a fence around the former disposal areas and to investigate the large oily sludge pit. Construction of the fence was completed in July 1992. Although the PRPs initially undertook the pit investigation on August 31, 1992, the EPA took over the pit investigation in September 1992 and completed the Remedial Investigation/Feasibility Study (RI/FS) for the Site in 1993.

The 2.5 acre oily sludge pit and ancillary soil and debris in Area 2 of the landfill was identified as the principal threat and the remaining 16 acre landfill in Areas 1, 2, and 3 were identified as a low-level threat. The investigation of the landfill and oily sludge pit area was conducted through exploratory trenching and borings. Within the pit area, the acidic oily sludge was encountered at depths of 18 feet and contained volatile organic compounds, PAHs, pentachlorophenol, PCBs, and metals including lead and arsenic. The estimated total volume of the oily sludge pit and surrounding contaminated soils was 22,000 cubic yards. Municipal and industrial wastes were identified in the trenches through the landfill but no other hot spots were identified in the landfill contents.

The results of the ground water investigation are presented in a September 30, 1996, RI Report. A total of 14 monitoring wells were installed at the Site to determine the impact of contaminants leaching from the landfill and oily sludge pit into the ground water. Ground water sample analyses performed in 1993, 1995, 1996, and 1997 only identified inorganic contamination, principally lead, arsenic, and manganese. The ground water Feasibility Study (FS) report was completed in July 1997.

Characterization of Risk

The source control operable unit which contained the 2.5 acre oily sludge pit, was identified as a principal threat, and the surrounding landfill, was identified as a low-level threat. The most significant threat to human health from the pit area was attributed to the low pH of the sludge which was corrosive and could have caused severe burns through accidental exposure. The oily sludge wastes also contained high concentrations of lead, PCBs, and PAHs. The surrounding landfill contained principally industrial debris and household trash. The landfill area was determined to be a low-level threat that did not require active remediation in order to be protective if there was no direct contact or ingestion. For the ground water operable unit, only inorganic contamination, principally lead, arsenic, and manganese was present in the ground water above either the Maximum Contaminant Levels established under the Safe Drinking Water Act or health-based cleanup goals established for the Site.

Record of Decision Findings

The EPA issued a Proposed Plan for the Site on July 27, 1993, and the public comment period closed on September 24, 1993. The EPA signed a Record of Decision (ROD) on September 29, 1994, for the source control operable unit. The remedial action objectives for the oily sludge pit were to prevent current and future direct contact with the highly corrosive wastes; prevent current and future direct contact, ingestion, and inhalation of contaminants in the pit waste and ancillary contaminated soil and debris; prevent the future migration of contaminants from the sludge pit area to other areas both on and off the site; and, prevent the potential for future migration of contaminants to the ground water at concentrations above appropriate action levels. The remedial goals for the oily sludge pit were established to meet the above remedial action objectives and are based on a recreational risk scenario developed in the baseline risk assessment. The cleanup goals were 3 mg/kg for total PAHs as measured by benzo(a)pyrene equivalents, 10 mg/kg for PCBs (total), and 500 mg/kg for lead.

The remedial action objectives for the landfill area were to prevent direct contact with and ingestion of the landfill contents; and, ensure that contaminants present in the landfill areas that may migrate into the ground water will not constitute a threat to public health and the environment. Remedial goals were not developed for the landfill area of the Site because the risk assessment indicated the landfill areas to be a low-level threat that will not require active remediation in order to meet the remedial action objectives.

The major remedy components in the 1994 ROD included:

• Excavation, stabilization, and off-site disposal of an estimated 22,000 cubic yards of contaminated sludge, soil, and debris exceeding the remedial action goals of 500 mg/kg lead, 10 mg/kg PCBs, and 3 mg/kg PAHs (as benzo(a) pyrene equivalents);

• The placement of a 2-foot thick soil cover over the remaining landfill area;

• Placement of deed notifications or other institutional controls to ensure that any future landowners will be notified that the land was a former Superfund site and has been cleaned up in accordance with CERCLA; and

• Long-term operation and maintenance and ground water monitoring.

In the 1994 ROD, the EPA also divided the Site into source control and ground water operable units and deferred the ground water remedy selection until additional site data had been collected.

Based on additional data collected during the remedial design, the PRPs proposed an alternative in-situ treatment method that would also meet the remedial goals and objectives for the Site at a lower cost. Upon evaluation of this additional data, the EPA proposed an amended remedy in a Proposed Plan dated January 1998. In this Proposed Plan, the EPA also identified three alternatives for the ground water contamination.

The EPA signed a ROD Amendment for the Site on July 22, 1998, amending the remedy for the source control operable unit and selecting a remedy for the ground water operable unit. The major components of the amended remedy for the source control operable unit included:

• In-situ stabilization/solidification of an estimated 23,500 cubic yards of contaminated sludge, soil, and debris exceeding the remedial action goals of 500 mg/kg lead, 10 mg/kg PCBs, and 3 mg/kg PAHs (as benzo(a) pyrene equivalents) and capable of meeting the more stringent performance standards for in-place management of the treated material and protection of the Site ground water;

• Installation of a 2-foot thick natural soil cover over part of Area 1 of the landfill and the treated oily sludge pit area in Area 2 of the landfill; and,

• Placement of deed notifications or other institutional controls to ensure that any future landowners will be notified that the land was a former Superfund site and waste has been treated and is being managed at the site.

The remedial action objectives for the ground water operable unit were to prevent exposure to the contaminated ground water, above acceptable risk levels for potential receptors, and restore the ground water to human health-based standards following remediation of the oily sludge pit. The cleanup goals for the ground water were 50 μg/l for arsenic, 2000 μg/l for barium, 4 μg/l for beryllium, 15 μg/l for lead, and 4,088 μg/l for manganese. For the ground water operable unit, monitored natural attenuation was the selected remedy for the hazardous substances in the ground water and institutional controls to prevent exposure to the ground water prior to achieving the remedial action goals.

Response Actions

The EPA issued a UAO on November 18, 1998, to the PRPs for implementation of the remedial action at the oily sludge pit. After further negotiations, the EPA and the settling PRPs signed a Consent Decree for implementation of the source control operable unit remedy. The Consent Decree was lodged with the U.S. District Court for the Eastern District of Arkansas on November 23, 1999, and entered by the Court on December 12, 2000. Since the Consent Decree had not been entered by the District Court prior to completing remediation of the oily sludge pit area, the remedial action was completed under the terms of the UAO.

The PRP's remedial construction contractor mobilized to the Site in June 1999 and initiated the first round of pilot tests in July 1999 to select a final reagent mix design for the stabilization/solidification treatment process. Pilot tests on the ancillary soils were completed in August 1999, and final testing on the oily sludge wastes was completed in November 1999. Stabilization of the oily sludge pit began in December 1999 and was completed in April 2000. A total of 19,376 cubic yards of oily sludge waste was treated through stabilization/solidification. Stabilization of the ancillary soils began in September 1999 and was completed in May 2000. A total of 20,372 cubic yards of soil was treated through stabilization/solidification. An additional 2000 cubic yards of oily sludge waste mixed with soil and debris were discovered in June 2000 and treatment was completed by August 2000. The PRPs completed installation of the 2.7 acre soil cover on the adjacent landfill area in September 1999, and over the 4.28 acre area of treated material in June 2000.

The borrow area used for the soil cover was graded and contoured so that repeated flooding by the Mississippi River and accumulation of silts and clay will establish a pond and surrounding wetland at the Site. Since 2000, the 1.58 acre borrow pit has accumulated water and vegetation due to flooding at the site. The water level in the borrow pit rises and falls in response to the water levels in the Mississippi River.

Institutional controls were implemented at the Site to prevent exposure to ground water and the treated waste and landfill contents. The Consent Decree (Section V.9.a, Section IX.24.b) lodged in the U.S. District Court for the Eastern District of Arkansas in November 1999 and entered in December 2000, specified a property easement, running with the land, that: (1) Grants a right of access for the purpose of conducting any activity related to the Consent Decree or any other activity related to implementing the ROD, including but not limited to, monitoring; and (2) grants to the right to enforce the land and water use restrictions listed in the Consent Decree to the United States, the State of Arkansas and its representatives, the other settling defendants, and other appropriate grantees. The land and water use restrictions are also specified in the property easement and include: (1) The prohibition on the installation of water wells in the alluvial aquifer until the remedial goals for the ground water operable unit have been achieved; (2) the prohibition on the removal of vegetation from the landfill cover if such removal may result in the subsequent erosion or removal of the soil cover over the landfill or treated material; and (3) the prohibition on the excavation or trenching into the treated material, landfill contents, or the associated soil cover with some exceptions. The property easement was executed on March 6, 2001, by the William L. Johnson Co. The prohibition on further excavation into the treated material, landfill contents, or soil cover effectively prohibits further well installation at the site due to the site-wide presence of the landfill and the treated oily sludge pit.

The EPA issued the Preliminary Close Out Report on September 19, 2000, and the Remedial Action report on December 31, 2001.

Long-term remedial action for the ground water operable unit was implemented through a sampling and analysis program conducted between January and November 2003. The sampling and analysis for the ground water included eight sampling events of the nine monitoring wells surrounding the oily sludge pit. The ground water monitoring program demonstrated that the combination of source area treatment and natural attenuation processes were effective in achieving the cleanup goals for the ground water operable unit. As a result of the completed remedial action for the oily sludge pit, the treated waste is no longer a source of the metals contamination previously detected in the ground water. The nine groundwater monitoring wells were plugged and abandoned in June 2003.

The EPA issued the Final Remedial Action Report on June 9, 2003, following achievement of the remedial goals for the ground water operable unit. The Final Close Out Report for the Site was issued on September 25, 2003.

Cleanup Standards

The sampling and analysis program for the oily sludge pit remediation included confirmatory testing to demonstrate compliance with the physical and chemical performance criteria for the stabilized material, and verification testing to demonstrate that the native soil beneath the treated material met the remedial goals for the site. For the confirmatory sampling, samples of the treated oily sludge and ancillary soil material were collected for unconfined compressive strength (UCS) and synthetic precipitation and leaching procedure (SPLP) testing at a frequency of one for every 500 cubic yards and permeability testing at a frequency of one for every 1000 cubic yards. Treated material was tested following a 7-day, 14-day, and 28-day cure time. An allowance is made for 20 percent of the samples collected from the treated oily sludge material to exceed the SPLP performance standards by a factor of two times, and 10 percent of the samples to exceed the standard by a factor of five times.

A total of 48 confirmatory samples of the treated oily sludge material were collected for SPLP and UCS testing and 24 samples for permeability testing. Of the 24 samples for permeability testing, the average of all samples was 5 × 10⁻⁷ cm/sec which exceeded the treatment goal of 1 × 10⁻⁶ cm/sec as an allowable average. In addition, all samples exceeded the treatment goal of 1 × 10⁻⁵ cm/sec as a maximum permeability value. Of the 48 samples for UCS analysis, the average UCS value was 68.9 which exceeded the treatment goal of 50 psi as an allowable average. The SPLP performance criteria was also met or exceeded in the 48 samples except for two samples that did not meet the lead performance criteria.

Confirmatory sampling of the stabilized ancillary soil material included 43 samples for chemical and physical testing. Of the 21 samples for permeability testing, the average of all samples was 7 × 10⁻⁷ cm/sec which exceeded the treatment goal of 1 × 10⁻⁶ cm/sec as an allowable average. In addition, all samples exceeded the treatment goal of 1 × 10⁻⁵ cm/sec as a maximum permeability value. Of the 43 samples for UCS analysis, the average UCS value was 67 which exceeded the treatment goal of 50 psi as an allowable average. The SPLP performance criteria was also met or exceeded in the 43 samples except for four samples that did not meet the lead performance criteria.

Verification testing was conducted beneath the treated oily sludge pit and at the base of the ancillary soil excavations for exceedances of the remedial goals. Verification sampling beneath the oily sludge pit was accomplished through ten borings and split-spoon sampling of the native soil beneath the treated oily sludge. All of the verification samples for the oily sludge pit were either non-detect or below the remedial goals. Verification sampling was performed after the hydraulic excavators had excavated the ancillary soils from each of the cells within the pit area. Of the seven verification samples from the base of the excavations, none of the samples had an exceedance of the remedial goals.

The sampling and analysis program for the ground water included eight sampling events of the nine monitoring wells surrounding the oily sludge pit between January 2002 and November 2002. The ground water monitoring program demonstrated that the combination of source area treatment and natural attenuation processes were effective in achieving the cleanup goals for the ground water operable unit. Lead and arsenic concentrations were below the remedial goal in all wells during each of the eight sampling events. While barium and beryllium were both listed as contaminants of concern, these two metals have remained below the cleanup goals both before and after remediation of the oily sludge pit. Average manganese concentrations were also below the remedial goal in all wells during each of the eight sampling events.

Operation and Maintenance

There are no scheduled operation and maintenance requirements for this Site. Future site inspections may be conducted as necessary during property redevelopment efforts to ensure that the institutional controls remain protective of human health, and in support of the five year review remedy evaluations. The stabilized/solidified waste in the former oily sludge pit does not require any maintenance and was designed to remain in-situ based on the stringent treatment standards. The 2-foot thick soil cover on the landfill and treated oily sludge pit area does not require mowing or other vegetation control since the vegetation helps to reduce potential erosion during flooding events. Since the soil cover is intended to prevent accidental exposure to the landfill contents and the treated waste material, rather than act as an impermeable cap, roots from the vegetation will not impact the intended protectiveness of the soil cover. Soil and debris are also being added to the oily sludge mound area as part of the current property redevelopment efforts, creating an additional protective layer on the treated waste material. The security fence around the Site has been removed with the exception of the area within the hardwood wetlands that separates the Site from the St. Francis levee. A security gate at the entrance to the Site from South 8th Street was left in place at the request of the property owner to control access to the Site.

Five-Year Review

The Comprehensive Environmental Response, Compensation and Liability Act (CERCLA or Superfund) requires a five-year review of all sites with hazardous substances remaining above the health-based levels for unrestricted use of the site. Since the cleanup of the South 8th Street Landfill site utilized in-situ stabilization and solidification of the hazardous materials as the method to reduce the risk, the five-year review process will be used to insure that the site reuse and redevelopment activities are consistent with the site restrictions. The EPA completed the first statutory five-year review in June 2004 and determined that the remedy selected for the South 8th Street Landfill remains protective of human health and the environment. For future five-year reviews, EPA will continue to monitor the reuse and redevelopment activities at the South 8th Street Landfill site and perform a five-year review inspection. EPA plans to complete the next Five-Year Review by June 2009.

Community Involvement

Public participation activities have been satisfied as required in CERCLA section 113(k), 42 U.S.C. 9613(k), and CERCLA section 117, 42 U.S.C. 9617. Documents in the deletion docket which EPA relied on for recommendation of the deletion from the NPL are available to the public in the information repositories.

V. Deletion Action

The EPA, with concurrence of the State of Arkansas, has determined that all appropriate responses under CERCLA have been completed, and that no further response actions, under CERCLA, other than O&M and five-year reviews, are necessary. Therefore, EPA is deleting the Site from the NPL.

Because the EPA considers this action to be noncontroversial and routine, the EPA is taking it without prior publication of a notice of intent to delete. This action will be effective September 28, 2004, unless the EPA receives adverse comments by August 30, 2004, on a parallel notice of intent to delete published in the proposed rule section of today's Federal Register. If adverse comments are received within the 30-day public comment period on the proposal, the EPA will publish a timely withdrawal of this direct final notice of deletion before the effective date of the deletion and it will not take effect, and the EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 20, 2004.
Richard E. Greene,
Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. In Appendix B to Part 300, Table 1 is amended by removing the entry for “South 8th Street Landfill, West Memphis, Arkansas.”

[FR Doc. 04-17301 Filed 7-29-04; 8:45 am]

BILLING CODE 6560-50-P